FEDERAL COMMUNICATIONS COMMISSION

Notice of Public Information Collection(s) Being Reviewed by the Federal Communications Commission for Extension Under Delegated Authority, Comments Requested

November 1, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 12, 2001. If you anticipate that you will be submitting comments, but find it difficult to do so within the period of time allowed by this notice, you should advise the contact listed below as soon as possible.

ADDRESSES: Direct all comments to Les Smith, Federal Communications Commission, Room 1 A-804, 445 Twelfth Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval No.: 3060-0492.

Title: Section 74.992 Access to channels licensed to wireless cable entities.

Form No.: FCC 330.

Type of Review: Extension of currently approved collection.

Respondents: Business or other for-profit, State, Local or Tribal Government.

Number of Respondents: 10.

Estimated Hours Per Response: 3.5 hours (These hours include the contracting hour cost (2 hours) to the respondents and the respondents hour burden (1.5 hours).

Frequency of Response: On occasion.

Cost to Respondents: $4,000.

Estimated Total Annual Burden: 15 hours.

Needs and Uses: Section 74.992 requires that requests by ITFS entities for access to wireless cable facilities licensed on ITFS frequencies be made by filing FCC Form 330 (3060-0062), Sections I (Identity of applicant, requested facilities), II (legal qualifications of applicant), III (Financial qualifications of applicant) and IV (ITFS service proposal). The application must include a cover letter clearly indicating that the application is for ITFS access to a wireless cable entity's facilities on ITFS channels. Section 74.992(d) requires an ITFS user to provide a wireless cable licensee with its planned schedule of use four months in advance of accessing the channels. This notice is completed before the filing of the application and the burden is included with the application. The data is used by FCC staff to determine eligibility of an educational institution or entity demanding access for ITFS use on a wireless cable facility. The four month advance notice is used by the wireless cable licensee to allow it to move programming to other channels.

OMB Approval No.: 3060-0494.

Title: Section 74.990 Use of available instructional television fixed service frequencies by wireless cable entities.

Form No.: n/a.

Type of Review: Extension of currently approved collection.

Respondents: Business or other for-profit, State, Local or Tribal Government.

Number of Respondents: 100.

Estimated Hours Per Response: 0.33 hours-2 hours (These hours include the contracting hour cost to the respondents and the respondents hour burden).

Frequency of Response: On occasion.

Cost to Respondents: $11,250.

Estimated Total Annual Burden: 42 hours.

Needs and Uses: Section 74.990(c) requires applicants to confirm their unopposed status after the period for filing competing applications and petitions to deny has passed. This confirmation is accomplished through the filing of a letter with the Commission. Section 74.990(d) requires a wireless cable applicant to show that there are no multipoint distribution service or multichannel multipoint distribution service channels available for application, purchase or lease that could be used in lieu of the instructional television fixed service frequencies applied for. The data provided in the showing will be used by FCC staff to insure that proposals to operate a wireless cable system on ITFS channels do not impair or restrict any reasonably foreseeable ITFS use.

OMB Approval No.: 3060-0493.

Title: Section 74.986 Involuntary ITFS station modifications.

Form No.: FCC 330.

Type of Review: Extension of currently approved collection.

Respondents: Businesses or other for-profit, State, Local or Tribal Government.

Number of Respondents: 25.

Estimated Hours Per Response: 5 hours (These hours include the contracting hour cost (1 hour) to the respondents and the respondents hour burden (4 hours)).

Frequency of Response: On occasion.

Cost to Respondents: $16,250.

Estimated Total Annual Burden: 25 hours.

Needs and Uses: Section 74.986 requires that an application for involuntary modification of an ITFS station be filed on FCC Form 330 (3060-0062) but need not fill out Section II (legal qualifications). The application must include a cover letter clearly indicating that the modification is involuntary and identifying the parties involved. The data is used by FCC staff to insure that proposals to modify facilities of ITFS licensees/permittees would provide comparable ITFS service and would otherwise serve the public interest in promoting the MMDS service.

Federal Communications Commission.
Magalie Roman Salas,
Secretary.

[FR Doc. 00-28890 Filed 11-9-00; 8:45 am]

BILLING CODE 6712-01-P